DEPARTMENT OF COMMERCE

National Oceanic and Atmospheric Administration

50 CFR Part 665

[Docket No. 071211828-8826-03]

RIN 0648-AU22

Fisheries in the Western Pacific; Bottomfish and Seamount Groundfish; Permit and Reporting Requirements in the Main Hawaiian Islands

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing Amendment 14 to the Fishery Management Plan for the Bottomfish and Seamount Groundfish Fisheries of the Western Pacific Region. The intent of this final rule is to inform the public that the associated permitting and reporting requirements have been approved by OMB.

DATES: The amendments to §§ 665.13(f)(2) and (g), 665.14(a), and 665.61(a), published at 73 FR 18450 (April 4, 2008) have been approved by OMB and are effective on August 18, 2008.

ADDRESSES: Written comments regarding the burden-hour estimates or other aspects of the collection-of-information requirements contained in this final rule may be submitted to William L. Robinson, Administrator, NMFS Pacific Islands Region (PIR), 1601 Kapiolani Boulevard, Suite 1110, Honolulu, HI 96814-4700, and to David Rostker, OMB, by e-mail to David_Rostker@omb.eop.gov, or fax to 202-395-7285.

FOR FURTHER INFORMATION CONTACT: Bob Harman, NMFS PIR, 808-944-2271.

SUPPLEMENTARY INFORMATION:

Electronic Access

This Federal Register document is also accessible at the Office of the Federal Register: www.gpoaccess.gov/fr/.

Background

A final rule for Amendment 14 was published in the Federal Register on April 4, 2008 (73 FR 18450), and the requirements of that final rule, other than the collection-of-information requirements, were effective on April 1, 2008. Because OMB approval of the collection-of-information requirements had not been received by the date that final rule was published, the effective date of the associated permitting and reporting requirements in that rule was delayed. OMB approved the collection-of-information requirements contained in the final rule on July 3, 2008. Accordingly, this final rule makes effective the collection-of-information requirements at §§ 665.13, 665.14, and 665.61, which were amended in the April 4, 2008, final rule.

Classification

This final rule has been determined to be not significant for purposes of Executive Order 12866.

Notwithstanding any other provision of the law, no person is required to respond to, and no person shall be subject to penalty for failure to comply with, a collection of information subject to the requirements of the Paperwork Reduction Act (PRA), unless that collection of information displays a currently valid OMB control number.

This final rule contains new collection-of-information requirements subject to the PRA under OMB Control Number 0648-0577. The public reporting burden for these requirements is estimated to be 20 minutes for a new permit application, two (2) hours for a permit appeal, and 20 minutes for completing a fishing logbook each day. These estimates include time for reviewing instructions, searching existing data sources, gathering and maintaining the data needed, and completing and reviewing the collection of information. Send comments regarding these burden estimates or any other aspect of this data collection, including suggestions for reducing the burden, to William L. Robinson (see ADDRESSES), or by e-mail to David_Rostker@omb.eop.gov, or fax to 202-395-7285.

Authority: 16 U.S.C. 1801 et seq.

Dated: July 15, 2008.
Samuel D. Rauch III,
Deputy Assistant Administrator For Regulatory Programs, National Marine Fisheries Service.

[FR Doc. E8-16488 Filed 7-17-08; 8:45 am]

BILLING CODE 3510-22-S